DEPARTMENT OF THE TREASURY

Submission for OMB Review; Comment Request

December 18, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 4, 2002 to be assured of consideration.

Internal Revenue Service

OMB Number: 1545-0047.

Form Number: IRS Form 5300 and Schedule Q (Form 5300).

Type of Review: Extension.

Title: Application for Determination for Employee Benefit Plan, Schedule Q (Form 5300); and Elective Determination Requests (Schedule Q).

Description: IRS needs certain information on the financing and operating of employee benefit and employee contribution plans set up by employers. IRS uses Form 5300 to obtain the information needed to determine whether the plans qualify under Code sections 401(a) and 501(a). Schedule Q provides information related to the manner in which a plan satisfies certain qualification requirements relating to minimum participation, coverage, and nondiscrimination.

Respondents: Individual or households, Business or other for-profit.

Estimated Number of Respondents/Recordkeepers: 185,000.

Estimated Burden Hours Per Respondent/Recordkeeper:

Form/schedule | Recordkeeping | Learning about the law or the form | Preparing the form | Copying, assembling, and sending the form to the IRS
Form 5300 | 41 hr., 7 min | 7 hr., 54 min | 13 hr., 34 min | 1 hr., 20 min.
Schedule Q (Form 5300) | 6 hr., 13 min | 9 hr., 14 min | 9 hr., 45 min

Frequency of Response: On occasion.

Estimated Total Reporting/Recordkeeping Burden: 17,955,750 hours.

OMB Number: 1545-0200.

Form Number: IRS Form 5307.

Type of Review: Extension.

Title: Application for Determination of Adopters of Master or Prototype or Volume Submitter Plans.

Description: This form is filed by employers or plan administrators who have adopted a master or prototype plan approved by the IRS District Director to obtain a ruling that the plan adopted is qualified under Internal Revenue Code sections 401(a) and 501(a). It may not be used to request a letter for a multiple employer plan.

Respondents: Business or other for-profit.

Estimated Number of Respondents/Recordkeepers: 100,000.

Estimated Burden Hours Per Respondent/Recordkeeper:

Recordkeeping—27 hr., 58 min.

Learning about the law or the form—6 hr., 40 min.

Preparing the form—10 hr., 12 min.

Copying, assembling, and sending the form to the IRS—48 min.

Frequency of Response: On occasion.

Estimated Total Reporting/Recordkeeping Burden: 538,250 hours.

OMB Number: 1545-0229.

Form Number: IRS Form 6406.

Type of Review: Extension.

Title: Short Form Application for Determination for Minor Amendment of Employee Benefit Plan.

Description: This form is used by certain employee plans who want a determination letter or an amendment to the plan. The information gathered will be used to decide whether the plan is qualified under section 401(a).

Respondents: Business or other for-profit.

Estimated Number of Respondents/Recordkeepers: 25,000.

Estimated Burden Hours Per Respondent/Recordkeeper:

Recordkeeping—14 hr., 21 min.

Learning about the law or the form—2 hr., 13 min.

Preparing the form—4 hr., 25 min.

Copying, assembling, and sending the form to the IRS—32 min.

Frequency of Response: On occasion.

Estimated Total Reporting/Recordkeeping Burden: 538,250 hours.

Clearance Officer: George Freeland, Internal Revenue Service, Room 5577, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 02-169 Filed 1-3-02; 8:45 am]

BILLING CODE 4830-01-P